DEPARTMENT OF VETERANS AFFAIRS

Fund Availability Under the VA Homeless Providers Grant and Per Diem Program

AGENCY: Department of Veterans Affairs.

ACTION: Notice.

SUMMARY: The Department of Veterans Affairs (VA) is announcing the availability of funds for applications for assistance under the “Per Diem-Only” (PDO) component of VA's Homeless Providers Grant and Per Diem Program. This Notice contains information concerning the program, funding priorities, application process, and amount of funding available.

DATES: An original completed and collated grant application (plus three completed collated copies) for assistance under the VA's Homeless Providers Grant and Per Diem Program must be received in the Grant and Per Diem Field Office, by 4 p.m. Eastern Time on Wednesday, March 31, 2010. Applications may not be sent by facsimile (FAX). In the interest of fairness to all competing applicants, this deadline is firm as to date and hour, and VA will treat as ineligible for consideration any application that is received after the deadline. Applicants should take this practice into account and make early submission of their material to avoid the risk of loss of eligibility due to unanticipated delays or other delivery-related problems.

For a Copy of the Application Package: Download directly from VA's Grant and Per Diem Program Web page at: http://www.va.gov/homeless/ or http://www.grants.gov/. Questions should be referred to the Grant and Per Diem Program at (toll-free) 1-877-332-0334. For information relating to the VA Homeless Providers Grant and Per Diem Program, see the Final Rule published in the Federal Register on September 26, 2003.

Submission of Application: An original completed and collated grant application (plus three copies) and a cover letter clearly stating under which funding priority applicants (see funding priorities) wish to be considered must be submitted to the following address: VA Homeless Providers Grant and Per Diem Field Office, 10770 N. 46th Street, Suite C-200, Tampa, FL 33617. Applications must be received in the Grant and Per Diem Field office by the application deadline. This includes applications submitted through Grants.gov. Applications must arrive as a complete package. Materials arriving separately will not be included in the application package for consideration and may result in the application being rejected or not funded.

FOR FURTHER INFORMATION CONTACT: Ms. Chelsea Watson, VA Homeless Providers Grant and Per Diem Program, Department of Veterans Affairs, 10770 N. 46th Street, Suite C-200, Tampa, FL 33617; (toll-free) 1-877-332-0334.

SUPPLEMENTARY INFORMATION: This Notice announces the availability of funds for assistance under VA's Homeless Providers Grant and Per Diem Program for eligible programs that have not previously applied for or received per diem in connection with a grant (see 38 CFR 61.1 through 61.82). Funding applied for under this Notice is authorized by Public Law 109-461, Sec. 703, known as the Veterans Benefit, Health Care and Information Technology Act of 2006, and by the “Homeless Veterans Comprehensive Assistance Act of 2001,” Public Law 107-95, § 5, codified as amended at 38 U.S.C. 2011, 2012, 2013, 2061, 2064, and may be used for aid for supportive housing. Service centers will not be funded in this NOFA. Funding will be in the form of per diem payments issued to eligible entities from the date of the award and will continue subject to availability of funds and the recipients' compliance with 38 CFR 61.1 through 61.82. For eligibility criteria, please refer to Final Rule published in the Federal Register on September 26, 2003, 38 CFR 61.30, 61.31, and 61.32.

VA expects that it will take no longer than 90 days from the date of award for projects to be inspected and become operational. Failure to meet the 90-day milestone may result in the per diem award being terminated.

Capital grant recipients who received capital grant funding under VA's Homeless Providers Grant and Per Diem Program in years 1994 through 2009 for acquisition, renovation or new construction should not respond to this NOFA. Per diem payments for those portions of their programs that were created with capital grant funds is requested in the capital grant application and paid at the time of the capital grant project completion and inspection.

Previous PDO recipients that renewed their PDO grants in 2005, 2007, or 2008 need not reapply to continue these projects.

VA is pleased to issue this NOFA for the Homeless Providers Grant and Per Diem Program as a part of the effort to end chronic homelessness among our Nation's veterans. The Department expects to create approximately 1,200 beds under this NOFA.

Funding available under this NOFA is being offered to help offset the operating expenses of existing State and local governments, Indian Tribal Governments, faith-based, and community-based organizations that are capable of providing supported housing and supportive services for homeless veterans. The District of Columbia, the Commonwealth of Puerto Rico, or any territory or possession of the United States, may be considered eligible entities under the definition of “State” in the 38 CFR 61.1 Definitions. It should be noted that VA payment is limited to the applicant's cost of care per eligible veteran minus other sources of payments to the applicant for furnishing services to homeless veterans up to the per-day rate VA pays for State Home Domiciliary care. Awardees will be required to support their request for per diem payment with adequate fiscal documentation as to program income and expenses.

Interested organizations should know that the vast majority of homeless veterans in this country suffer from mental illness or substance abuse disorders or are dually diagnosed with both mental illness and substance abuse disorders. In addition, many homeless veterans have serious medical problems. The recent events associated the Nation's returning Operation Enduring Freedom and Operation Iraqi Freedom (OEF/OIF) veterans further emphasizes the need for collaboration with VA medical centers, VA community-based outpatient clinics or other health care providers as well as with VA and other benefit providers as an important aspect of ensuring that homeless veterans have access to appropriate health care services. VA considers this program an important part of our effort to end chronic homelessness among all veterans.

It is important to be aware that VA places great emphasis on responsibility and accountability. VA has procedures in place to monitor services provided to homeless veterans and outcomes associated with the services provided in grant and per diem-funded programs. VA is also implementing new procedures to further this effort. Applicants should be aware of the following:

All awardees that are conditionally selected in response to this NOFA must meet the Life Safety Code of the National Fire and Protection Association as it relates to their specific facility. Applicants should note that all facilities are to be equipped with sprinklers unless they are specifically exempted under the Life Safety Code and make consideration of this when submitting their grant applications as no additional funds will be made available for capital improvements under this per diem-only NOFA. VA will conduct an inspection prior to awardees being able to submit request for payment to ensure this requirement is met.

Each per diem-funded program will have a liaison appointed from a nearby VA medical facility to provide oversight and monitor services provided to homeless veterans in the per diem-funded program.

Monitoring will include at least an annual review of each per diem program's progress toward meeting internal goals and objectives in helping veterans attain housing stability, adequate income support, and self-sufficiency as identified in each per diem program's original application. Monitoring will also include a review of the agency's income and expenses as they relate to this project to ensure per diem payment is accurate.

Each per diem-funded program will participate in VA's national program monitoring and evaluation system administered by VA's Northeast Program Evaluation Center (NEPEC). It is the intention of VA to develop specific performance targets with respect to housing for homeless veterans. NEPEC's monitoring procedures will be used to determine successful accomplishment of these housing outcomes for each per diem-funded program.

Authority: Funding applied for under this Notice is authorized by Public Law 109-461, Sec. 703, known as the Veterans Benefit, Health Care and Information Technology Act of 2006 and by the Homeless Veterans Comprehensive Assistance Act of 2001, Public Law 107-95, § 5, codified as amended at 38 U.S.C. 2011, 2012, 2013, 2061, 2064. The program is implemented by the final rule codified at 38 CFR Part 61.0. The regulations can be found in their entirety in 38 CFR, Sec. 61.0 through 61.82. Funds made available under this Notice are subject to the requirements of those regulations.

Allocation: Approximately $15 million annually is available for the per diem-only award component of this program. This funding subject to the availability of funds and will be available so long as recipients meet the requirements of 38 CFR 61.0 through 61.82.

Funding Priorities: VA establishes the following funding priorities in order to: (1) Implement the provisions of Public Law 107-95 regarding geographical dispersion and non-duplication of service; and (2) bolster capacity in areas that are underserved by the Grant and Per Diem Program. These areas may have high populations of homeless veterans and limited services to address homeless veteran's needs. These areas can include both urban and rural areas but may be particularly prevalent outside the high population areas.

VA is offering eligible applicants funding priorities for transitional housing and services to: (1) Serve women and women with care of dependent children; (2) Indian Tribal Governments or non-profit agencies that will provide transitional housing and services on Indian Tribal Property. VA is encouraging interested State and local governments, faith-based and community-based organizations to apply for funding under this NOFA.

In this round of per diem-only grant funding, VA expects to award eligibility for funding to create approximately 1,200 per diem-only community-based supported housing beds.

Funding priority 1. VA is offering the opportunity for providers who are willing to create new projects specifically for women and women with care of dependent children only, which are 30 beds or less. Of those eligible entities in the first funding priority, that are legally fundable, the highest scoring applicants will be funded first until approximately 200 beds are awarded. Applicants not funded in this priority will be considered in the third funding priority. Should not enough eligible projects be funded under the first funding priority, beds not awarded in this priority will fall to the third funding priority.

Funding priority 2. VA is offering the opportunity to Indian Tribal Governments or non-profit agencies that will provide transitional housing and services on Indian Tribal Property to apply for funding under this NOFA to create transitional housing and services for homeless veterans. Eligible entities such as Indian Tribal Governments and non-profit agencies willing to provide transitional housing and services on Indian Tribal Property will be considered in the second funding priority as applicable. Of those eligible entities in the second funding priority that are legally fundable; the highest scoring applicants will be funded first until approximately 100 beds are awarded. Applicants not funded in this priority will be placed in the third funding priority. Should not enough eligible projects be funded under the second funding priority, beds not expended in this priority will fall to the third funding priority. Note: Non-profit agencies who apply under this priority will be required to provide a letter of assurance from the Indian Tribal Government that if funded, the provision of service will occur on Indian Tribal Property.

Funding priority 3. VA is encouraging interested State and local governments, non-profit organizations and State and local governments that have been selected to utilize buildings on VA Medical Center grounds under the Secretary's Enhanced Use Lease Program initiative for housing homeless veterans, faith-based, and community-based organizations, as well as eligible entities located in the District of Columbia, the Commonwealth of Puerto Rico, or any territory or possession of the United States, to apply for funding under this NOFA to create transitional housing and services for all homeless veterans. Eligible entities that are State and local governments, Indian Tribal Governments, Enhanced Use Lease organizations, faith-based, and community-based organizations, or any territory or possession of the United States, will be considered in the third funding priority as applicable. Of those eligible entities that are legally fundable, the highest-ranked applications for which funding is available, will be conditionally selected for eligibility to receive a per diem-only award in accordance with their ranked order until funding is expended (approximately 900 beds).

Methodology: VA will review all non-capital grant recipients in response to this notice of funding availability. VA will then group the applicants into the funding priorities categories. Applicants will then be ranked within their respective funding category based on score and any ranking criteria set forth in that funding category only if the applicant scores at least 500 cumulative points from paragraphs (b), (c), (d), (e), and (i) of 38 CFR Sec. 61.13.

The highest-ranked application for which funding is available, within the highest funding category, will be conditionally selected for eligibility to receive per diem payment in accordance with their ranked order until VA reaches the projected bed totals for each category. If funds are still available after selection of those applications in the highest priority group, VA will continue to conditionally select applicants in lower priority categories in accordance with the selection method set forth in the final rule Sec. 61.32.

Application Requirements: Applicants must include a cover letter clearly stating under which funding priority they wish to be considered. Non-profit agencies who apply under funding priority two are required to provide a letter of assurance from the Indian Tribal Government that if funded, the provision of service will occur on Indian Tribal Property. The grant application requirements will be specified in the application package. Applicants should be careful to complete the proper application package. Submission of the incorrect or incomplete application package will result in the application being rejected at threshold review. The packages include all required forms and certifications. Selections will be made based on criteria described in the application, Final Rule, and NOFA. Applicants who are conditionally selected will be notified of any additional information needed to confirm or clarify information provided in the application. Applicants will then be notified of the deadline to submit such information. If an applicant is unable to meet any conditions for grant award within the specified timeframe, VA reserves the right to not award funds and to use the funds available for other grant and per diem applicants.

Dated: January 13, 2010.
John R. Gingrich,
Chief of Staff, Department of Veterans Affairs.

[FR Doc. 2010-1297 Filed 1-22-10; 8:45 am]

BILLING CODE 8320-01-P